DEPARTMENT OF AGRICULTURE

Rural Utilities Service

[Docket # RUS-21-Electric-0018]

Next Era Energy LLC, Notice of Availability of a Draft Environmental Impact Statement and Notice of Public Meeting

AGENCY: Rural Utilities Service, USDA.

ACTION: Notice of availability of a draft environmental impact statement and notice of public meeting.

SUMMARY: Notice is hereby given that the Rural Utilities Service (RUS), an agency within the Department of Agriculture, has prepared and is announcing that a Draft Environmental Impact Statement (EIS) for a project proposed by Next Era Energy Inc (NEER), is available for public review and comment. RUS is publishing the Draft EIS to inform interested parties and the general public about the project proposal and to invite the public to comment on the proposed action addressed in the Draft EIS. The Draft EIS was prepared in accordance with the National Environmental Policy Act of 1969 (NEPA) the Council on Environmental Quality (CEQ) regulations for implementing the procedural provisions of NEPA and the Rural Utilities Service, Environmental Policies and Procedures and evaluates the potential environmental effects related to providing financial assistance for the NEER, Skeleton Creek Solar and Battery Storage Project, a proposed 250-megawatt (MW) solar array, plus 200-MW/800-megawatt-hour (MWh) storage facility using photovoltaic (PV) modules on private lands in Garfield County. The purpose and need of the proposed Project is to meet the needs of the Western Farmers Electric Cooperative (WFEC). The Project will allow NextEra to provide the additional generation capacity needed by WFEC to serve electrical needs at a reasonable cost to their member cooperatives. RUS has determined that its action regarding the proposed Project is an undertaking subject to review under Section 106 of the National Historic Preservation Act and its implementing regulation, “Protection of Historic Properties” and as part of its broad environmental review process, RUS must take into account the effect of the proposed project on historic properties. RUS is using its procedures for public involvement under NEPA to meet its responsibilities to solicit and consider the views of the public during Section 106 review. Accordingly, comments submitted in response to this Notice will inform RUS decision-making during Section 106 review. As noted in the Federal Register notice announcing the intent to prepare an EIS on March 15, 2021, RUS invited any interested party wishing to participate directly with the agency as a “consulting party” in Section 106 review may submit a written request to the RUS contact provided below. RUS will consider, and provide a timely response to, any and all requests for consulting party status.

DATES: Written comments on this Draft EIS must be received November 18, 2021. Two public meetings to solicit comments on the Draft EIS will be held. The first meeting on November 9, 2021 will be a webinar held on Zoom from 1:00-2:30 p.m. CT.

Meeting 1 Link: https://swca.zoom.us/j/92375284700

Meeting 1 Webinar ID: 923 7528 4700

Toll-Free call-in number: 888 475 4499

The second meeting will be held on November 10, 2021 on Zoom from 6:00-8:00 p.m. CT.

Meeting 2 Link: https://swca.zoom.us/j/98165619926

Meeting 2 Webinar ID: 981 6561 9926

Toll-Free call-in number: 888 475 4499

Both meetings will provide a presentation by Rural Utilities Service, third-party EIS contractor, followed by a session to take public comment. Oral comments from the public will be recorded by a certified court reporter or by Zoom webinar.

Attendees will be able to submit oral and written comments during the public meeting which will become part of the public record. Written comments may also be submitted to SkeletonCreekSolarPublicComments@usda.gov. Comments mailed directly to the Agency are discouraged during the COVID 19 period due to the potential for delayed receipt.

All comments submitted during the public review period, oral or written, will become part of the public record. Before including your address, telephone number, email address, or other personal identifying information in your comment, you should be aware that your entire comment—including your personal identifying information— may be made publicly available at any time. All comments will be reviewed and responded to in the Final EIS. For consideration in the Final EIS, comments must be postmarked or received online by November 18, 2021.

ADDRESSES: The Draft EIS and other Project-related information is available at Rural Utilities Service website located at https://www.rd.usda.gov/environmentalstudy/skeleton-creek-solar-and-battery-storage-project-garfield-county-oklahoma.

All information related to the Project is available at this website. In addition, hardcopies of the documents are available at the Enid Public Library, located at 120 W Maine St, Enid, OK 73701. Parties wishing to be placed on the mailing list for future information or to receive hard or electronic copies of the EIS should send an email to SkeletonCreekSolarPublicComments@usda.gov.

FOR FURTHER INFORMATION CONTACT: Information related to the Project is available at https://www.rd.usda.gov/environmentalstudy/skeleton-creek-solar-and-battery-storage-project-garfield-county-oklahoma.

To request official consulting party status, submit comments, or for further information, please contact: Kristen Bastis, Environmental Protection Specialist, SkeletonCreekSolarPublicComments@usda.gov, Rural Utilities Service, Environment and Engineering Department, Water and Environmental Programs, Rural Utilities Service, Rural Development, United States Department of Agriculture, Mail Stop 1571, 1400 Independence Ave. SW, Washington, DC 20250.

SUPPLEMENTARY INFORMATION:

1. Agencies Involved and Status

a. The Rural Utilities Service, Lead Agency

b. The United States Army Corps of Engineers, Cooperating Agency

c. The Bureau of Land Management, Cooperating Agency

d. The Bureau of Indian Affairs, Cooperating Agency

e. The United States Fish and Wildlife Service, Participating Agency

2. Project Description and Location

The Draft EIS addresses the construction and operation of the Project, which consists of a 250-MW solar array, plus 200-MW/800-MWh storage facility in Garfield County, Oklahoma. The Project consists of four major components: Photovoltaic solar arrays, energy storage facilities, linear facilities, and transmission interconnection facilities. The energy storage facilities consist of batteries, solar trackers, and solar power inverters. Linear facilities include a network of internal access roads, communication cables or lines, and a distribution power network for construction and operations control systems. The transmission interconnection facilities include a substation/switchyard that interconnects to the existing OG&E 345-kV Woodring Substation via an estimated 1-to-2-mile gen-tie. These components are explained in detail in the Draft EIS.

3. Purpose and Need for the Action

Since the Applicant entered into a power purchase agreement with Western Farmers Electric Cooperative (WFEC) for the Project, the Project's purpose and need is focused on meeting the energy buyer's (WFEC) needs. WFEC's objective is to provide safe, adequate, and reliable power to its members at the lowest reasonable cost. The Project would allow the Applicant to provide the additional generation capacity needed by WFEC to achieve these goals within the service territories of their member cooperatives. Specifically, the Project would provide a source of non-dispatchable power via solar panels that increase capacity, whereas battery storage would provide a source of dispatchable power that increases the reliability of generated power to the grid. The pairing of battery storage with solar panels would further allow WFEC to meet peak demand needs without adding additional fossil fuel consumption to the system. In addition, the Project would help WFEC and the Southwest Power Pool to continue to comply with Oklahoma legislative declarations to facilitate the delivery of renewable energy.

The following three federal agencies will use this EIS to inform decisions about funding, authorizing, or permitting various components of the Project:

• Rural Utilities Service (RUS), the lead federal agency, will evaluate whether or not to provide Project financial assistance.

• The U.S. Army Corps of Engineers will review the Applicant's permit application, as required by Section 404 under the Clean Water Act.

• The U.S. Fish and Wildlife Service will determine the likelihood of Project effects on listed species, as required under Section 7 of the Endangered Species Act.

4. Issues of Concern

Based on RUS's assessment of potential Project impacts, as well as input provided during the scoping period, RUS identified key issues to be addressed in the EIS. These issues are evaluated in Chapter 3 of the Draft EIS and are as follows:

• Air quality

• Geology and soils

• Water resources

• Vegetation (including invasive species/noxious weeds and special-status species)

• Wetlands

• Wildlife (including special-status species)

• Cultural and historic resources

• Land use

• Noise

• Public health and safety

• Socioeconomics and environmental justice

• Transportation

• Visual quality and aesthetics

5. Alternatives To Be Considered

Alternatives to the Project considered by RUS consist of the No Action alternative, under which the proposed Project would not be undertaken, and a Proposed Action site location. To allow for flexibility in design, the Applicant identified an additional 1,744 acres of buildable land located east of the Proposed Action that could be developed to support the Project. Land acquisition has not yet occurred for this Alternative. The Project would connect to the point of interconnect via a 1-mile transmission line. All construction and operations and maintenance activities, as well as Applicant-committed minimization or avoidance measures, would be the same as described for the Proposed Action.

The Draft EIS describes these alternatives in detail and discusses their anticipated impacts to physical, biological, and social resources.

6. Overview of Scoping Process

The first Notice of Intent (NOI) to prepare an EIS and hold a public scoping meeting was published in the Federal Register at 86 FR 14302, on March 15, 2021 and initiated a 30-day public scoping period. One public scoping meeting was held on March 30, 2021 using Zoom Webinar. The public scoping period occurred from March 15 through April 19, 2021 and RUS issued a Scoping Report in April 2021. The scoping report is available on RUS's website here: https://www.rd.usda.gov/environmentalstudy/skeleton-creek-solar-and-battery-storage-project-garfield-county-oklahoma.

RUS also sent letters to federal and state agencies inviting them to participate in the public scoping meeting and provide input on Project-related concerns. Thirty-nine tribes were invited to participate in the National Historic Preservation Act Section 106 review process, attend the public scoping meeting, and provide relevant information for inclusion in the EIS.

7. Decision Process

The Draft EIS will be available for review and comment for 45 days. Following the 45-day review period, Rural Utilities Service will prepare a Final EIS. All comments received on the DEIS will be duly considered in preparing the Final EIS, which is expected to be available in the spring of 2022. The availability of the Final EIS will be announced for public review and comment in the Federal Register and the local newspapers used in previous public notices. After a 30-day public comment period, Rural Utilities Service will consider all public comments and prepare responses and a Record of Decision (ROD) documenting the Agency's decision under NEPA regarding NEER's request for financial assistance. Notices announcing the availability of the ROD will be published in the Federal Register and in local newspapers.

Any final action by RUS related to the proposal will be subject to, and contingent upon, compliance with all relevant executive orders and federal, state, and local environmental laws and regulations in addition to the completion of the environmental review requirements as prescribed in Rural Utilities Service Environmental Policies and Procedures, 7 CFR part 1970.

Christopher A. McLean,
Acting Administrator, Rural Utilities Service, U.S. Department of Agriculture.

[FR Doc. 2021-21506 Filed 10-1-21; 8:45 am]

BILLING CODE 3410-15-P